DEPARTMENT OF LABOR

Occupational Safety and Health Administration

29 CFR Part 1904

[Docket No. OSHA-2013-0023]

RIN 1218-AD17

Recording and Reporting Occupational Injuries and Illnesses; Approval of Information Collection Requirements

AGENCY: Occupational Safety and Health Administration (OSHA), Department of Labor.

ACTION: Announcement of OMB information collection approval.

SUMMARY: This document announces Office of Management and Budget (OMB) approval for the information collection requirements in the Recording and Reporting Occupational Injuries and Illnesses regulation as revised by the Tracking of Injuries and Illnesses final rule. OSHA sought OMB approval of these requirements under the Paperwork Reduction Act of 1995 (the PRA), and, as required by that Act, is announcing the approval for these requirements. The OMB approval number is 1218-0176.

DATES: The information collection requirements contained in the final rule which was published on January 25, 2019 (84 FR 380), were approved by OMB on March 28, 2019.

FOR FURTHER INFORMATION CONTACT: Seleda Perryman, OSHA, Directorate of Standards and Guidance, U.S. Department of Labor; telephone (202) 693-2222.

SUPPLEMENTARY INFORMATION: On January 25, 2019, OSHA published the Tracking of Injuries and Illnesses final rule revising the Recording and Reporting Occupational Injuries and Illnesses regulation, 29 CFR 1904.41. The regulation contains new and revised information collection requirements. These requirements are contained in the Information Collection Request (ICR) approved by OMB under control number 1218-0176, which OSHA included in the final rule published in the Federal Register (84 FR 405). OSHA sought OMB approval of these requirements under the PRA (44 U.S.C. 3501 et seq.), and, as required by that Act, is announcing the approval for these requirements. A copy of the approved ICR is available at https://www.reginfo.gov/public/do/PRAViewDocument?ref_nbr=201901-1218-001.

The final rule amended the information collection requirements of the recordkeeping regulation 29 CFR 1904.41 by rescinding the requirement for establishments with 250 or more employees to electronically submit information from OSHA Forms 300 and 301. The final rule also established a new information collection requirement by requiring covered employers to submit their Employer Identification Number (EIN) electronically along with their injury and illness data submission.

The public already has had the opportunity to comment on the information collection requirements and OMB has approved them on March 28, 2019. This announcement is to increase public awareness of OMB's approval of the information collection requirements. In addition, 29 CFR 1904.45 displays the approved recordkeeping and reporting information collection requirements, including 29 CFR 1904.41, with the OMB control number, 1218-0176.

Authority and Signature

Loren Sweatt, Acting Assistant Secretary of Labor for Occupational Safety and Health, directed the preparation of this document. The authority for this document is the Paperwork Reduction Act of 1995 (44 U.S.C. 3506 et seq.) and Secretary of Labor's Order No. 1-2012 (77 FR 3912).

Signed at Washington, DC, on June 21, 2019.
Loren Sweatt,
Acting Assistant Secretary of Labor for Occupational Safety and Health.

[FR Doc. 2019-15880 Filed 7-26-19; 8:45 am]

BILLING CODE 4510-26-P